DEPARTMENT OF HEALTH AND HUMAN SERVICES

Centers for Disease Control and Prevention

[30 Day-11-10GQ]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC 20503 or by fax to (202) 395-5806. Written comments should be received within 30 days of this notice.

Proposed Project

The Evaluation of Ordinances to Prevent Workplace Violence in Convenience Stores—NEW—National Institute for Occupational Safety and Health (NIOSH), Centers for Disease Control and Prevention,(CDC).

Background and Brief Description

Workplace violence (WPV) is a significant concern for employers and employees alike; every year in the U.S., WPV results in hundreds of deaths, nearly two million nonfatal injuries, and billions of dollars in costs. Historically, retail establishments have been the focus of WPV research. In 1997-2008, there were 1,800 homicides of retail workers of which 1,572 were due to robbery or assaults.

Situational Crime Prevention programs to reduce robbery and violent crime have been proven to be successful in reducing robbery and robbery-related injury risk to both employees and customers in retail settings. These programs incorporate a criminological concept called Crime Prevention Through Environmental Design (CPTED) which theorizes that environments can be modified to make potential criminals feel they are being watched, i.e. under surveillance and thus vulnerable, resulting in avoidance of the target by increasing the robber's perception that a robbery is not worth the risk.

NIOSH is requesting approval to conduct an evaluation of the effectiveness of convenience store safety ordinances in Dallas and Houston, Texas. The goals of this research are to (1) determine if the ordinances effectively increase the frequency of implementation of CPTED components in stores and decrease robbery and assaults to workers and customers; (2) determine the benefits to stores from compliance to the city ordinance; (3) determine the process the cities used for ordinance development and their recommendations to other cities, and (4) develop evidence-based recommendations to provide to other cities and retail companies considering CPTED programs. Recommendations about the process used by Houston and Dallas may be helpful to other communities considering ordinances. Additionally, benefits to the stores with regard to return on investment, increased quality of customers, increased sales, and decreases in employee stress due to risk of workplace violence may be useful to other cities and their retailers considering ordinances.

The proposed NIOSH study will be a population based follow-up study of convenience stores which are operating 1-year after the effective date of their ordinance. A sample of 300 stores in Dallas and 300 stores in Houston will be selected. Each store will be visited by a survey interviewer who will evaluate the store environment and interview the store managers in person. Data will be collected on compliance with the safety ordinance, reasons for non-compliance, and benefits to the store from compliance including return on investment, increased sales, increased quality of customers, decreased crime, and decreased employee stress.

The participation of the store manager will be voluntary. Data from the store evaluation will be recorded on a checklist form and will take approximately 15 minutes of the store interviewer's time. The store evaluation will be conducted independently of the managers and will not require their time or assistance thus; they will not be incurring burden. The interview of the store manager will require approximately 30 minutes of the manager's time. From previous studies of convenience stores, over a 90% response rate is expected. Prior to the survey NIOSH will contact those companies in the sample who own two or more stores that can be identified based on the company or store name, and obtain approval from the store owners/upper management for their store manager's participation. Permission to participate will be obtained from the remainder of the store managers at the time of the survey. If a store manager refuses to participate, another store will be selected from the sampling frame to ensure a sample of 600 stores. The survey interviewer will first visit the store and leave the questionnaire with the manager and then return 1-2 days later for the interview. This leaves time for the manager to obtain approval to participate from owners and upper management. The store manager's participation will be voluntary and consent to participate will be obtained from the manager.

A burden of 3 hours is estimated for each of approximately 35 owners/managers to review the questionnaire and survey protocol, and to discuss their store managers' participation with NIOSH project officers by conference call.

Once the study is completed, NIOSH will provide a copy of the final report to each participating store, the participating city Mayor's Task force for Convenience Store Safety, the police department, and the industry and community partners.

Approximately 3 industry leaders in each city who participate on the Mayor's Task Force for Convenience Store Safety will provide support and voluntarily contact approximately 90 stores and recommend they participate. There is no cost to respondents other than their time. The total estimated annual burden hours are 495.

Estimated Annualized Burden Hours
Respondents | Number of respondents | Number of responses per respondent | Average burden per response (in hrs)
Store manager Screening/interviews | 600 | 1 | 30/60
Store owners/upper management approve manager interviews | 35 | 1 | 3
Stakeholders Industry leader recommend stores | 3 | 30 | 30/60
Community leader recommend stores | 3 | 30 | 30/60

Shari Steinberg,
Acting Reports Clearance Officer, Centers for Disease Control and Prevention.

[FR Doc. 2010-32077 Filed 12-21-10; 8:45 am]

BILLING CODE 4163-18-P